DEPARTMENT OF COMMERCE

Foreign-Trade Zones Board

[S-48-2023]

Foreign-Trade Zone 44; Application for Subzone; Givaudan Fragrances Corporation; Mount Olive, Flanders and Towaco, New Jersey

An application has been submitted to the Foreign-Trade Zones (FTZ) Board by the State of New Jersey, Department of State, grantee of FTZ 44, requesting subzone status for the facilities of Givaudan Fragrances Corporation (Giavaudan), located in Mount Olive, Flanders and Towaco, New Jersey. The application was submitted pursuant to the provisions of the Foreign-Trade Zones Act, as amended (19 U.S.C. 81a-81u), and the regulations of the FTZ Board (15 CFR part 400). It was formally docketed on March 21, 2023.

The proposed subzone would consist of the following sites: Site 1 (4.7 acres) 300 Waterloo Valley Road, Mount Olive; Site 2 (1.6 acres) 700 Bartley Chester Road, Flanders; and Site 3 (18.7 acres) 5 Jacksonville Road, Towaco. A notification of proposed additional production activity has been submitted and is being processed under 15 CFR 400.37 (Doc. B-16-2023). The proposed subzone would be subject to the existing activation limit of FTZ 44.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is May 3, 2023. Rebuttal comments in response to material submitted during the foregoing period may be submitted during the subsequent 15-day period to May 18, 2023.

A copy of the application will be available for public inspection in the “Online FTZ Information Section” section of the FTZ Board's website, which is accessible via www.trade.gov/ftz.

For further information, contact Christopher Kemp at Christopher.Kemp@trade.gov.

Dated: March 21, 2023.
Elizabeth Whiteman,
Acting Executive Secretary.

[FR Doc. 2023-06135 Filed 3-23-23; 8:45 am]

BILLING CODE 3510-DS-P